ELECTION ASSISTANCE COMMISSION

Request for Comment: Election Audit Standards; Correction

AGENCY: Election Assistance Commission.

ACTION: Notice; correction.

SUMMARY: The U.S. Election Assistance Commission published a document in the Federal Register on February 23, 2026 regarding a request for public comment on the proposed Voluntary National Election Audit Standards. The notice contained a nonworking link to access the Voluntary National Election Audit Standards.

ADDRESSES: To view the proposed Voluntary National Election Audit Standards, see: https://www.eac.gov/sites/default/files/2026-02/Draft_Audit_Standards_021826_Clean.docx. Comments on the proposed Voluntary National Audit Standards must be in writing. Written comments can be submitted at https://www.regulations.gov (docket ID: EAC-2026-0067). Written comments on the proposed document can also be sent to the U.S. Election Assistance Commission, 633 3rd Street NW, Suite 200, Washington, DC 20001, Attn: Clearinghouse Division.

SUPPLEMENTARY INFORMATION:

Correction

In the Federal Register of February 23, 2026, in FR Doc. 2026-03583, on page 8472 in the second column, correct the ADDRESSES caption to read:

ADDRESSES: To view the proposed Voluntary National Election Audit Standards, see: https://www.eac.gov/sites/default/files/2026-02/Draft_Audit_Standards_021826_Clean.docx. Comments on the proposed Voluntary National Audit Standards must be in writing. Written comments can be submitted at https://www.regulations.gov (docket ID: EAC-2026-0067). Written comments on the proposed document can also be sent to the U.S. Election Assistance Commission, 633 3rd Street NW, Suite 200, Washington, DC 20001, Attn: Clearinghouse Division.

Seton Parsons,
Associate Counsel, U.S. Election Assistance Commission.

[FR Doc. 2026-03765 Filed 2-24-26; 8:45 am]

BILLING CODE 4810-71-P